INTERNATIONAL TRADE COMMISSION

[Investigation No. 731-TA-856; Second Review]

Ammonium Nitrate From Russia

Determination

On the basis of the record ¹ developed in the subject five-year review, the United States International Trade Commission (Commission) determines, pursuant to section 751(c) of the Tariff Act of 1930 (19 U.S.C. § 1675(c)), that revocation of the antidumping duty order on ammonium nitrate from Russia would be likely to lead to continuation or recurrence of material injury to an industry in the United States within a reasonably foreseeable time.

¹ The record is defined in sec. 207.2(f) of the Commission's Rules of Practice and Procedure (19 CFR § 207.2(f)).

Background

The Commission instituted this review on March 1, 2011 (76 FR 11273) and determined on June 6, 2011 that it would conduct an expedited review (76 FR 34749, June 14, 2011). The Commission transmitted its determination in this review to the Secretary of Commerce on July 29, 2011. The views of the Commission are contained in USITC Publication 4249 (August 2011), entitled Ammonium Nitrate from Russia: Investigation No. 731-TA-856 (Second Review).

By order of the Commission.
Issued: July 29, 2011.
James R. Holbein,
Secretary to the Commission.

[FR Doc. 2011-19776 Filed 8-3-11; 8:45 am]

BILLING CODE 7020-02-P